NUCLEAR REGULATORY COMMISSION

[NRC-2016-0001]

Sunshine Act Meeting Notice

DATE: August 29, September 5, 12, 19, 26, October 3, 2016.

PLACE: Commissioners' Conference Room, 11555 Rockville Pike, Rockville, Maryland.

STATUS: Public and Closed.

Week of August 29, 2016

There are no meetings scheduled for the week of August 29, 2016.

Week of September 5, 2016—Tentative

Friday, September 9, 2016

2:45 p.m. Affirmation Session (Public Meeting) (Tentative), CB&I AREVA MOX Services, LLC (Mixed Oxide Fuel Fabrication Facility, Possession and Use License), Intervenors' Motion to Amend Protective Order

Week of September 12, 2016—Tentative

Monday, September 12, 2016

1:30 p.m. NRC All Employees Meeting (Public Meeting), Marriott Bethesda North Hotel, 5701 Marinelli Road, Rockville, MD 20852

Tuesday, September 13, 2016

2:00 p.m. Briefing on NRC International Activities (Closed—Ex. 1 & 9)

Friday, September 16, 2016

9:00 a.m. Briefing on Fee Process (Public Meeting), (Contact: Michele Kaplan: 301-415-5256)

This meeting will be webcast live at the Web address— http://www.nrc.gov/.

Week of September 19, 2016—Tentative

Monday, September 19, 2016

9:00 a.m. Briefing on NRC Tribal Policy Statement (Public Meeting), (Contact: Michelle Ryan: 630-829-9724)

This meeting will be webcast live at the Web address— http://www.nrc.gov/.

Week of September 26, 2016—Tentative

There are no meetings scheduled for the week of September 26, 2016.

Week of October 3, 2016—Tentative

Wednesday, October 5, 2016

9:00 a.m. Hearing on Combined Licenses for William States Lee III Nuclear Station, Units 1 and 2: Section 189a. of the Atomic Energy Act Proceeding (Public Meeting), (Contact: Brian Hughes: 301-415-6582)

This meeting will be webcast live at the Web address— http://www.nrc.gov/.

Thursday, October 6, 2016

10:00 a.m. Meeting with Advisory Committee on Reactor Safeguards (ACRS) (Public Meeting), (Contact: Mark Banks: 301-415-3718)

This meeting will be webcast live at the Web address— http://www.nrc.gov/.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: August 25, 2016.
Denise L. McGovern,
Policy Coordinator, Office of the Secretary.

[FR Doc. 2016-20916 Filed 8-26-16; 11:15 am]

BILLING CODE 7590-01-P